DEPARTMENT OF ENERGY

Federal Energy Regulatory Commission

[Project No. 2607-016]

Spencer Mountain Hydropower, LLC; Notice of Application Accepted for Filing and Soliciting Motions To Intervene and Protests

Take notice that the following hydroelectric application has been filed with the Commission and is available for public inspection.

a. Type of Application: Subsequent License.

b. Project No.: 2607-016.

c. Date filed: June 26, 2023.

d. Applicant: Spencer Mountain Hydropower, LLC.

e. Name of Project: Spencer Mountain Hydroelectric Project (Spencer Mountain Project).

f. Location: On the South Fork Catawba River, near the town of Gastonia, in Gaston County, North Carolina.

g. Filed Pursuant to: Federal Power Act, 16 U.S.C. 791(a)-825(r).

h. Applicant Contact: Mr. Kevin Edwards and Mrs. Amy Edwards, Spencer Mountain Hydropower, LLC, 916 Comer Rd, Stoneville, NC 27048; Phone at (336) 589-6138, or smhydro@pht1.com.

i. FERC Contact: Michael Spencer at (202) 502-6093, or michael.spencer@ferc.gov.

j. Deadline for filing motions to intervene and protests: 60 days from the issuance date of this notice.

The Commission strongly encourages electronic filing. Please file using the Commission's eFiling system at https://ferconline.ferc.gov/FERCOnline.aspx. For assistance, please contact FERC Online Support at FERCOnlineSupport@ferc.gov, (866) 208-3676 (toll free), or (202) 502-8659 (TTY).

In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Spencer Mountain Project (P-2607-016).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted but is not ready for environmental analysis at this time.

l. The existing Spencer Mountain Project consists of the following existing facilities: (1) a 12-foot-high, 636-foot-long masonry and rubble dam with a crest elevation of 634.7 feet mean sea level (msl); (2) a 68-acre reservoir with a storage capacity of 166 acre-feet; (3) a 58.9-foot-long canal headwork, consisting of four 6-foot-wide gates; (4) a 53.8-foot-long canal spillway connected to the downstream side of the canal headwork; (5) a 30-foot-wide, 10-foot-deep, 3,644-foot-long open earthen canal; (6) a 32-foot-wide trashrack at the powerhouse forebay with a 2.5-inch clear bar-space; (7) a 36-inch-diameter bypass pipe; (8) a 22.5-foot-high, 49.5-foot-long, 48.75-foot-wide powerhouse containing two Francis-type generating units with a total capacity of 0.64 megawatts; (9) a concrete lined tailrace discharging flows back into the South Fork Catawba River; (10) a substation containing a 2.3/44-kilovolt (kV) transformer and interconnection to Duke Energy's 44 kV transmission line; and (11) appurtenant facilities.

The project operates in a run-of-river mode with a minimum bypass flow of 76 cubic feet per second. Spencer Mountain Hydropower, LLC proposes no changes to the project facilities or operations. The project has an average annual generation of 4,064 megawatt-hours.

m. In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to the Commission's Public Reference Room. For assistance, contact FERC Online Support at FERCOnllineSupport@ferc.gov or call toll-free, (886) 208-3676 or TTY, (202) 502-8659.

You may also register online at https://www.ferc.gov/docs-filing/esubscription.asp to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Issue Scoping Document 1 for comments | September 2023.
Scoping Document 1 comments due | October 2023.
Request Additional Information (if necessary) | November 2023.
Issue Scoping Document 2 (if necessary) | November 2023.
Issue Notice of Ready for Environmental Analysis | January 2024.

Dated: August 24, 2023.
Debbie-Anne A. Reese,
Deputy Secretary.

[FR Doc. 2023-18744 Filed 8-29-23; 8:45 am]

BILLING CODE 6717-01-P